DEPARTMENT OF THE INTERIOR

National Park Service

[N6727; NPS-WASO-NAGPRA-NPS0041487; PPWOCRADN0-PCU00RP14.R50000]

Notice of Inventory Completion: Shiloh Museum of Ozark History, Springdale, AR

AGENCY: National Park Service, Interior.

ACTION: Notice.

SUMMARY: In accordance with the Native American Graves Protection and Repatriation Act (NAGPRA), the Shiloh Museum of Ozark History has completed an inventory of human remains and has determined that there is a cultural affiliation between the human remains and Indian Tribes or Native Hawaiian organizations in this notice.

DATES: Repatriation of the human remains in this notice may occur on or after January 20, 2026.

ADDRESSES: Send written requests for repatriation of the human remains in this notice to Stephanie Carter, Shiloh Museum of Ozark History, 118 W Johnson Avenue, Springdale, AR 72764, email scarter@shilohmuseum.org.

SUPPLEMENTARY INFORMATION: This notice is published as part of the National Park Service's administrative responsibilities under NAGPRA. The determinations in this notice are the sole responsibility of the Shiloh Museum of Ozark History, and additional information on the determinations in this notice, including the results of consultation, can be found in its inventory or related records. The National Park Service is not responsible for the determinations in this notice.

Abstract of Information Available

Human remains representing, at least, three individuals have been identified. No associated funerary objects are present. All of the human remains were purchased by the Shiloh Museum as part of the William Guy Howard Collection in 1966. One set of human remains consists of a skull (cataloged as S-66-1-553). Another set of human remains consists of a skull (cataloged as S-66-1-566). The locations from which these two sets of human remains were removed are unknown. Another set of human remains consists of a femur and tibia (cataloged as S-66-1-1173 and S-66-1-1174). This individual was removed from Ash Cave, Madison County, AR. There are no apparent hazardous substances present.

Cultural Affiliation

Based on the information available and the results of consultation with The Osage Nation, cultural affiliation is reasonably identified by the geographical location or acquisition history of the human remains described in this notice.

Determinations

The Shiloh Museum of Ozark History has determined that:

• The human remains described in this notice represent the physical remains of three individuals of Native American ancestry.

• There is a connection between the human remains described in this notice and The Osage Nation.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 20, 2026. If competing requests for repatriation are received, the Shiloh Museum of Ozark History must determine the most appropriate requestor prior to repatriation. Requests for joint repatriation of the human remains are considered a single request and not competing requests. The Shiloh Museum of Ozark History is responsible for sending a copy of this notice to the Indian Tribes and Native Hawaiian organizations identified in this notice and any other consulting parties.

Authority: Native American Graves Protection and Repatriation Act, 25 U.S.C. 3003, and the implementing regulations, 43 CFR 10.10.

Dated: December 2, 2025.
Melanie O'Brien,
Manager, National NAGPRA Program.

[FR Doc. 2025-23181 Filed 12-17-25; 8:45 am]

BILLING CODE 4312-52-P